DEPARTMENT OF THE INTERIOR

Fish and Wildlife Service

[FWS-R8-ES-2011-N234; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before December 12, 2011.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicant

Permit No. TE-126141

Applicant: Craig A. Stockwell, Fargo, North Dakota.

The applicant requests an amendment to take (survey, trap, handle, capture, mark, collect biological samples, release, transport, and sacrifice) the Pharump poolfish (Empetrichtys latos) in conjunction with surveys, genetic research, mesocosm experiments, and population monitoring activities throughout the range of the species in Nevada, for the purpose of enhancing the species' survival.

Permit No. TE-787716

Applicant: Scott B. Tremor, Santee, California.

The applicant requests a permit to take (harass by survey, capture, handle, and release) the Pacific pocket mouse (Perognathus longimembris pacificus) in conjunction with surveys and population monitoring activities throughout the range of each species in California, for the purpose of enhancing the species' survival.

Permit No. TE-50510A

Applicant: Geoffrey D. Cline, Oakhurst, California.

The applicant requests a permit to take (capture, handle, and release) the California tiger salamander (Ambystoma californiense) in conjunction with survey activities throughout the range of the species in California, for the purpose of enhancing the species' survival.

Permit No. TE-144960

Applicant: Strange Resource Management, Wilseyville, California.

The applicant requests a permit to take (capture, handle, and release) the California tiger salamander (Ambystoma californiense) in conjunction with survey activities throughout the range of each species in California for the purpose of enhancing the species' survival.

Permit No. TE-101743

Applicant: Daniel Edelstein, Novato, California.

The applicant requests an amendment to a permit to take (capture, handle, and release) the California tiger salamander (Ambystoma californiense) in conjunction with survey activities throughout the range of the species in California for the purpose of enhancing the species' survival.

Permit No. TE-071216

Applicant: Reed V. Smith, Ventura, California.

The applicant requests a permit to take (survey, locate and monitor nests) the California least tern (Sterna antillarum browni) in conjunction with population monitoring activities within State Park Lands in Ventura County, California, for the purpose of enhancing the species' survival.

Permit No. TE-148555

Applicant: Phillip Brylski, Irvine, California.

The applicant requests an amendment to a permit to take (survey, capture, handle, and release) the Fresno kangaroo rat (Dipodomys nitratoides exilis), Tipton kangaroo rat (Dipodomys nitratoides nitratoides), giant kangaroo rat (Dipodomys ingens), Amargosa vole (Microtus californicus scirpensis), salt marsh harvest mouse (Reithrodontomys raviventris), and riparian woodrat (Neotoma fuscipes riparia) in conjunction with survey activities throughout the range of each species in California for the purpose of enhancing the species' survival.

Permit No. TE-54631A

Applicant: California Department of Fish and Game, Fresno, California.

The applicant requests a permit to carry out the following actions in conjunction with surveys, population monitoring, and research activities throughout the range of each of the following species in California for the purpose of enhancing the species' survival:

• Take (capture, collect, and kill) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi);

• Take (survey, live trap, capture, handle, and release) the California tiger salamander (Ambystoma californiense), blunt-nosed leopard lizard (Gambelia silus) Tipton kangaroo rat (Dipodomys nitratoides nitratoides), giant kangaroo rat (Dipodomys ingens), Fresno kangaroo rat (Dipodomys nitratoides exilis), Morro Bay kangaroo rat (Dipodomys heermanni morroensis), Buena Vista lake shrew (Sorex ornatus relictus), riparian woodrat (Neotoma fuscipes riparia) and riparian brush rabbit (Sylvilagus bachmani riparius);

• Take (survey, capture, handle, release, and use baited camera stations and baited hair snare traps) San Joaquin kit fox (Vulpes macrotis mutica);

• Take (survey, capture, handle, photo document, and release) the Kern primrose sphinx moth (Euproserpinus euterpe); and

• Remove and reduce to possession from lands under Federal jurisdiction the following species:

Caulanthus californicus (California jewel-flower),

Chloropyron palmatum (palmate-bracted bird's-beak),

Eremalche kernensis (Kern mallow),

Monolopia (=Lembertia) congdonii (San Joaquin wooly-threads),

Opuntia basilaris var. treeleasei (Bakersfield cactus),

Orcuttia pilosa (hairy Orcutt grass),

Pseudobahia bahiifolia (Hartweg's golden sunburst),

Sidalcea keckii (Keck's checker-mallow),

Sidalcea keckii (Green's tuctoria).

Permit No. TE-54614A-0

Applicant: California Department of Fish and Game, Bishop, California

The applicant requests a permit to take (capture, handle, mark, recapture, disease study, and release) the Amargosa vole (Microtus californicus scirpensis) in conjunction with surveys, research and population monitoring activities in Inyo County, California, for the purpose of enhancing the species' survival.

Permit No. TE-59889A-0

Applicant: Melissa C. Odell, San Diego, California.

The applicant requests a permit to take (capture, handle, and release) the California tiger salamander (Ambystoma californiense) and take (capture, collect, and kill) the Conservancy fairy shrimp (Branchinecta conservatio), the longhorn fairy shrimp (Branchinecta longiantenna), and the vernal pool tadpole shrimp (Lepidurus packardi) in conjunction with survey activities throughout the range of each species in California for the purpose of enhancing the species' survival.

Permit No. TE-142435

Applicant: Debra M. Shier, Topanga, California.

The applicant requests a permit to take (harass by survey, capture, handle, transport, conduct mate pairings, captive breed, perform behavioral experiments, conduct physiological validation of stress using an Adrenocorticotrophic Hormone Challenge Test [ACTH challenge], conduct disease risk assessments, and release to the wild) the Pacific pocket mouse (Perognathus longimembris pacificus) in conjunction with research, captive propagation and population monitoring activities throughout the range of each species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Region 9, Sacramento, California.

[FR Doc. 2011-29167 Filed 11-9-11; 8:45 am]

BILLING CODE 4310-55-P